DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 15, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Risk Management Agency

Title: General Administrative Regulations; Interpretations of Statutory and Regulatory Provisions.

OMB Control Number: 0563-0055.

Summary of Collection: Section 533 of the Agricultural Research, Extension, and Education Reform Act of 1998 (1998 Research Act) requires the Federal Crop Insurance Corporation (FCIC) to publish regulation on how FCIC will provide a final agency determination in response to certain inquiries. Consistent with section 506(r) of the Act and 7 CFR part 400, subpart X in accordance with the Federal Crop Insurance Act, as amended, FCIC revised section 20 of the Common Crop Insurance Policy Basic Provisions, published at 7 CFR 457.8, to require the FCIC to provide interpretations of policy provisions and procedures (handbooks, manuals, memoranda, and bulletins) when any dispute in mediation, arbitration, or litigation requires interpretation of a policy provision or procedure.

Need and Use of the Information: The information collection requirements for this renewal package are necessary for FCIC to respond to requests for interpretations of provisions of the Federal Crop Insurance Act, policy provisions codified in the Code of Federal Regulations, policy provisions not codified in the Code of Federal Regulations, and procedures used in the administration of the Federal crop insurance program. This data is used to administer the provisions of 7 CFR part 400, subpart X in accordance with the Federal Crop Insurance Act, as amended.

Description of Respondents: Business or other for-profit; Farms.

Number of Respondents: 75.

Frequency of Responses: Reporting: On occasion.

Total Burden Hours: 600.

Levi S. Harrell,
Departmental Information Clearance Officer.

[FR Doc. 2022-17554 Filed 8-15-22; 8:45 am]

BILLING CODE 3410-08-P